Memorandum of March 1, 2004

Delegation of Certain Reporting Authority

Memorandum for the United States Trade Representative

By the authority vested in me as President by the Constitution and the laws of the United States, including section 301 of title 3, United States Code, I hereby delegate to you the functions conferred upon the President by section 163 of the Trade Act of 1974, as amended (19 U.S.C. 2213), to provide the specified report to the Congress.

You are authorized and directed to publish this memorandum in the Federal Register.

B

THE WHITE HOUSE,

Washington, March 1, 2004.

[FR Doc. 04-5048

Filed 3-3-04; 8:45 am]

Billing code 3190-01-P